DEPARTMENT OF COMMERCE

International Trade Administration

[C-602-811, C-351-851, C-834-808]

Silicon Metal From Australia, Brazil, and Kazakhstan: Postponement of Preliminary Determinations of Countervailing Duty Investigations

AGENCY: Enforcement and Compliance, International Trade Administration, Department of Commerce.

DATES: Effective May 16, 2017.

FOR FURTHER INFORMATION CONTACT: Katherine Johnson at (202) 482-4929 (Australia and Brazil); and Terre Keaton at (202) 482-1280 (Kazakhstan), AD/CVD Operations, Enforcement and Compliance, International Trade Administration, U.S. Department of Commerce, 1401 Constitution Avenue NW., Washington, DC 20230.

SUPPLEMENTARY INFORMATION:

Background

On March 28, 2017, the Department of Commerce (Department) initiated countervailing duty investigations (CVD) on silicon metal from Australia, Brazil, and Kazakhstan.¹ Currently, the preliminary determinations of these investigations are due no later than June 1, 2017.

¹ See Silicon Metal from Australia, Brazil, and Kazakhstan: Initiation of Countervailing Duty Investigations, 82 FR 16356 (April 4, 2017).

Postponement of Preliminary Determination

Section 703(b)(1) of the Tariff Act of 1930, as amended (the Act), requires the Department to issue the preliminary determination in a CVD investigation within 65 days after the date on which the Department initiated the investigation. However, if the petitioner makes a timely request for a postponement, section 703(c)(1)(A) of the Act allows the Department to postpone making the preliminary determination until no later than 130 days after the date on which the Department initiated the investigation.

On May 2, 2017, the petitioner ² submitted timely requests, pursuant to section 703(c)(1)(A) of the Act and 19 CFR 351.205(e), to postpone the preliminary determinations.³ For the reasons stated above and because there are no compelling reasons to deny the requests, the Department, in accordance with section 703(c)(1)(A) of the Act, is postponing the deadline for the preliminary determinations to no later than 130 days after the day on which the investigations were initiated. Accordingly, the Department will issue the preliminary determinations no later than August 5, 2017. However, because August 5, 2017, falls on a Saturday, the preliminary determinations will be due no later than August 7, 2017.⁴ In accordance with section 705(a)(1) of the Act and 19 CFR 351.210(b)(1), the deadline for the final determinations of these investigations will continue to be 75 days after the date of the preliminary determinations, unless postponed at a later date.

² Globe Specialty Metals, Inc.

³ See letters from the petitioner entitled “Silicon Metal from Australia, Brazil, and Kazakhstan; Countervailing Duty Investigations; Request for Postponement of Preliminary Determinations,” dated May 2, 2017.

⁴ See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: May 10, 2017.
Ronald K. Lorentzen,
Acting Assistant Secretary for Enforcement and Compliance.

[FR Doc. 2017-09872 Filed 5-15-17; 8:45 am]

BILLING CODE 3510-DS-P